DEPARTMENT OF TRANSPORTATION

Federal Aviation Administration

14 CFR Part 39

[Docket No. FAA-2011-1091; Directorate Identifier 2011-NM-037-AD; Amendment 39-16916; AD 2012-01-04]

RIN 2120-AA64

Airworthiness Directives; EADS CASA (Type Certificate Previously Held by Construcciones Aeronauticas, S.A.) Airplanes

AGENCY: Federal Aviation Administration (FAA), Department of Transportation (DOT).

ACTION: Final rule.

SUMMARY: We are adopting a new airworthiness directive (AD) for certain Model CN-235-100, CN-235-200, and CN-235-300 airplanes. This AD was prompted by reports of failures of the engine condition control cable which led to an engine shut down. This AD requires an inspection to determine the part number of the engine condition control cable, repetitive inspections for excessive wear of the affected engine condition control cable, and replacement of the affected part. We are issuing this AD to detect and correct failure of the engine condition control cable which could cause a consequent runway excursion during take-off, or reduced control of the airplane during flight.

DATES: This AD becomes effective March 13, 2012.

The Director of the Federal Register approved the incorporation by reference of certain publications listed in this AD as of March 13, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Shahram Daneshmandi, Aerospace Engineer, International Branch, ANM-116, Transport Airplane Directorate, FAA, 1601 Lind Avenue SW., Renton, Washington 98057-3356; telephone (425) 227-1112; fax (425) 227-1149.

SUPPLEMENTARY INFORMATION:

Discussion

We issued a notice of proposed rulemaking (NPRM) to amend 14 CFR part 39 to include an AD that would apply to the specified products. That NPRM was published in the Federal Register on October 25, 2011 (76 FR 65995). That NPRM proposed to correct an unsafe condition for the specified products. The MCAI states:

EADS-CASA received reports of engine condition control cable (Part Number (P/N) 35-56382-0003) failures that, in one of the cases, occurred during the starting phase of one engine which led to an engine shut down following the procedures described within the Aircraft Operation Manual.

The investigation revealed that the cable failure is due to a fracture in the area of the pulley MS 20219-1. The root cause of the fracture is an unsuitable ratio between the diameter of the pulley and the cable type and diameter.

This condition, if not detected and corrected, could lead to the engine condition control cable failure and consequent runway excursion if it occurs during take-off or reduced control of the aeroplane if it occurs during flight.

To address this condition, EADS-CASA has developed an engine condition control cable P/N 35-56382-0005 with improved characteristics.

For the reason described above, this [EASA] AD requires, at first, [an inspection to determine the part number of the engine condition control cable], [repetitive detailed] inspections for [excessive wear] of the [affected] engine condition control cable, and its replacement (scheduled or depending on the inspection findings) with engine condition control cable P/N 35-56382-0005.

You may obtain further information by examining the MCAI in the AD docket.

Comments

We gave the public the opportunity to participate in developing this AD. We received no comments on the NPRM (76 FR 65995, October 25, 2011) or on the determination of the cost to the public.

Conclusion

We reviewed the available data and determined that air safety and the public interest require adopting the AD as proposed except for minor editorial changes. We have determined that these minor changes:

• Are consistent with the intent that was proposed in the NPRM (76 FR 65995, October 25, 2011) for correcting the unsafe condition; and

• Do not add any additional burden upon the public than was already proposed in the NPRM (76 FR 65995, October 25, 2011).

Costs of Compliance

We estimate that this AD will affect 7 products of U.S. registry. We also estimate that it will take about 2 work-hours per product to comply with the basic requirements of this AD. The average labor rate is $85 per work-hour. Based on these figures, we estimate the cost of this AD to the U.S. operators to be $1,190, or $170 per product.

In addition, we estimate that any necessary follow-on actions would take about 12 work-hours and require parts costing $1,087, for a cost of $2,107 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM 2011-1091 (76 FR 65995, October 25, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-01-04 EADS CASA (Type Certificate Previously Held by Construcciones Aeronauticas, S.A.): Amendment 39-16916. Docket No. FAA-2011-1091; Directorate Identifier 2011-NM-037-AD.

(a) Effective Date

This airworthiness directive (AD) becomes effective March 13, 2012.

(b) Affected ADs

None.

(c) Applicability

This AD applies to EADS CASA (Type Certificate previously held by Construcciones Aeronauticas, S.A.) Model CN-235-100, CN-235-200, and CN-235-300 airplanes; certificated in any category; serial numbers C-030 through C-149 inclusive.

(d) Subject

Air Transport Association (ATA) of America Code 76: Engine controls.

(e) Reason

This AD was prompted by reports of failures of the engine condition control cable which led to an engine shut down. We are issuing this AD to detect and correct failure of the engine condition control cable which could cause a consequent runway excursion during take-off, or reduced control of the airplane during flight.

(f) Compliance

You are responsible for having the actions required by this AD performed within the compliance times specified, unless the actions have already been done.

(g) Inspections

Within 9 months or 300 flight hours, whichever occurs first after the effective date of this AD, inspect to determine whether the engine condition control cable has part number (P/N) 35-56382-0003. If an engine condition control cable having P/N 35-56382-0003 is installed, within 9 months or 300 flight hours, whichever occurs first after the effective date of this AD, do a detailed inspection for excessive wear of the engine condition control cable (including control rods, levers, and pulleys near the flight compartment center console having incorrect freedom and range of movement, incorrect assembly and locking, distortion, damage, corrosion, incorrect security of attachment; and control rod end fittings having excessive wear, i.e., kinks or distortion, corrosion, reduced diameter of cable, and broken wires); in accordance with Section 76-10-00, “Power and Condition Control,” Block 601 (Configuration 1), “Inspection/Check,” Paragraph 1.B., of the Airbus Military CN-235 Aircraft Maintenance Manual, Revision 57, dated July 15, 2010.

(h) Repetitive Inspections

For airplanes with engine condition control cable having P/N 35-56382-0003: Within 9 months or 300 flight hours after doing the detailed inspection required by paragraph (g) of this AD, whichever occurs first, repeat the detailed inspection specified in paragraph (g) of this AD.

(i) Replacement of Engine Condition Control Cable Due to Excessive Wear

If, during any inspection required by paragraph (g) or (h) of this AD, excessive wear of the engine condition control cable is found: Before further flight, replace the engine condition control cable with P/N 35-56382-0005, in accordance with Section 76-10-12, “Power and Condition Control Cables,” Block 401 (Configuration 1), “Removal/Installation,” Paragraph 3., of the Airbus Military CN-235 Aircraft Maintenance Manual, Revision 57, dated July 15, 2010.

(j) Replacement of Engine Condition Control Cable

Within 27 months or 900 flight hours, whichever occurs first after the effective date of this AD: Unless the engine condition control cable has already been replaced in accordance with paragraph (i) of this AD, replace the engine condition control cable having P/N 35-56382-0003 with an engine condition control cable having P/N 35-56382-0005, in accordance with Section 76-10-12, “Power and Condition Control Cables,” Block 401 (Configuration 1), “Removal/Installation,” Paragraph 3., of the Airbus Military CN-235 Aircraft Maintenance Manual, Revision 57, dated July 15, 2010.

(k) Parts Installation

As of the effective date of this AD, no person may install an engine condition control cable having P/N 35-56382-0003, on any airplane.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, Washington 98057-3356; telephone (425) 227-1112; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to MCAI EASA Airworthiness Directive 2011-0010, dated January 20, 2011; and Section 76-10-00, “Power and Condition Control,” Block 601 (Configuration 1), “Inspection/Check,” Paragraph 1.B., and Section 76-10-12, “Power and Condition Control Cables,” Block 401 (Configuration 1), “Removal/Installation,” Paragraph 3., of the Airbus Military CN-235 Aircraft Maintenance Manual, Revision 57, dated July 15, 2010; for related information.

(n) Material Incorporated by Reference

(1) You must use the following service information to do the actions required by this AD, unless the AD specifies otherwise. The Director of the Federal Register approved the incorporation by reference (IBR) of the following service information under 5 U.S.C. 552(a) and 1 CFR part 51:

(i) Section 76-10-00, “Power and Condition Control,” Block 601 (Configuration 1) (pages 601 through 606), “Inspection/Check,” Paragraph 1.B. of the Airbus Military CN-235 Aircraft Maintenance Manual, Revision 57, dated July 15, 2010. Only the title page and Record of Revisions of Airbus Military CN-235 Aircraft Maintenance Manual, Revision 57, dated July 15, 2010, specify the revision level of the document.

(ii) Section 76-10-12, “Power and Condition Control Cables,” Block 401 (Configuration 1) (pages 401 through 406), “Removal/Installation,” Paragraph 3., of the Airbus Military CN-235 Aircraft Maintenance Manual, Revision 57, dated July 15, 2010. Only the title page and Record of Revisions of Airbus Military CN-235 Aircraft Maintenance Manual, Revision 57, dated July 15, 2010, specify the revision level of the document.

(2) For service information identified in this AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on January 6, 2012.
Ali Bahrami,
Manager, Transport Airplane Directorate, Aircraft Certification Service.

[FR Doc. 2012-2291 Filed 2-6-12; 8:45 am]

BILLING CODE 4910-13-P